DEPARTMENT OF THE INTERIOR

U.S. Geological Survey

[USGS-2530-B98CA]

Proposed Information Collection; Nonindigenous Aquatic Species Sighting Reporting Form

AGENCY: United States Geological Survey (USGS), Interior.

ACTION: Notice; request for comments.

SUMMARY: We (the U.S. Geological Survey) have sent an Information Collection Request (ICR) to OMB for review and approval. The ICR, which is summarized below, describes the nature of the collection and the estimated burden on the public.

DATES: You must submit comment on or before October 8, 2010.

ADDRESSES: Send your comments and suggestions on this ICR to the Desk Officer for the Department of the Interior at OMB-OIRA at (202) 395-5806 (fax) or OIRA_DOCKET@OMB.eop.gov (e-mail). Please also send a copy of your comments on the ICR to Phadrea Ponds, Information Collection Clearance Officer, U.S. Geological Survey, 2150-C Centre Avenue Fort Collins, CO 80526 (mail); pondsp@usgs.gov (e-mail).

FOR FURTHER INFORMATION CONTACT: To request additional information about this ICR, please contact USGS, Pam Fuller by 7920 NW. 71st Street, Gainesville, Florida 32653 (mail); by telephone (352) 264-3481 or pfuller@usgs.gov (e-mail).

SUPPLEMENTARY INFORMATION:

I. Abstract

Information is collected from the public regarding the distribution of nonindigenous aquatic species, primarily fish, in open waters of the United States. This is vital information for early detection and rapid response for the possible eradication of organisms that may be considered invasive in a natural environment such as a lake, river, stream, and pond. These species are not native to the environment in which they are now found. Nonindigenous species can and do have negative impacts on our native species. Early detection is a major focus of the Bureau. The public can help us with this task by serving as the “eyes and ears” for the Survey's Program because the USGS cannot be everywhere, observing and monitoring all open waters for nonindigenous aquatic species.

The USGS does not actively solicit this information; a form is posted on our website to be completed with biologic, geographic and sender information. It is completely voluntary and sent to us only when the public has encountered a nonindigenous aquatic organism, usually through fishing or some other outdoor recreational activity and they chose to let us know.

We may not conduct or sponsor and a person is not required to respond to a collection of information unless it displays a currently valid OMB control number.

II. Data

OMB Control Number: 1028-NEW.

Title: Nonindigenous Aquatic Species Sighting Reporting Form.

Type of Request: This is an existing collection in use without an OMB control number or expiration date.

Affected Public: State and local government employees and private individuals.

Respondent's Obligation: Voluntary.

Frequency of Collection: On occasion.

Estimated Annual Number of Respondents: 1,000.

Estimated Total Annual Responses: 1,000.

Estimated Time per Response: 10 minutes.

Estimated Total Annual Burden Hours: 167 hours.

III. Request for Comments

We invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publically available at anytime. While you can ask OMB in your comment to withhold your personal identifying information from public review, we cannot guarantee that will be done.

Dated: August 31, 2010.
Anne Kinsinger,
Associate Director for Biology, U.S. Geological Survey.

[FR Doc. 2010-22237 Filed 9-7-10; 8:45 am]

BILLING CODE 4310-AM-P